DEPARTMENT OF DEFENSE

Department of the Air Force

GPS L2/L5 Public Forum—Information on the New Global Positioning System (GPS) L2 and L5 Civil Signals

AGENCY: Department of the Air Force, DoD.

ACTION: Notice, announcement of opportunity to attend.

SUMMARY: This notice announces a Global Positioning System (GPS) L2/L5 Civil Signal GPS L2/L5 Public Forum on June 29, 2001 in Washington, DC. The Department of Transportation, in cooperation with the GPS Joint Program Office (JPO), will provide information on the new civil signals being planned for the GPS L2 frequency (1227.60 MHz) and the new GPS L5 (1176.45 MHz) frequency. The information presented will be important to those in the government and industry involved in the development, production, support or use of satellite navigation products and services for the civil and military users. No new GPS JPO procurements are being announced or are anticipated in the near term for this work.

The agenda will be divided into a morning session (9 a.m. to 11:30 a.m.) for the GPS Program overview and L2 and L5 overview presentations, and an afternoon session (1 p.m. to 4 p.m.) for technical presentations on both new signals. The morning agenda includes: Overview of GPS Modernization Program; the New L2 Civil Signal; the New L5 Civil Signal and the GPS JPO Interface Control Document (ICD) Review and Approval Process. The afternoon agenda includes: Technical Description of the Planned L2 Design; Laboratory Implementation of the New L2 Civil Signal; Technical Description of the Planned L5 Signal Design. Copies of the April 16, 2001 “NAVSTAR GPS Space Segment/User Segment L5 Interfaces (ICD-GPS-705),” the May 31, 2001 “Pre-Proposed Interface Revision Notice to ICD-GPS-200C for L2 Civil (L2C) Signal (PPIRN-200C-007)” and the briefing charts to the May 2, 2001 “GPS L2 and L5 Civil Signal Industry Day” presentations are now available on the GPS JPO public website https://gps.losangeles.af.mil/gpslibrary/2000_public/2100_html/documents.html.

This event will be held in the FAA Auditorium, 800 Independence Avenue SW., Washington, DC 20591. The Industry Day conference is unclassified and formal visit requests are not necessary, but for security purposes, the GPS JPO must provide a list of all attendees to the FAA not later than June 22, 2001. Therefore, attendees should provide attendance notification to Veronique Benjamins (SAIC), phone (310) 363-6515, fax (310) 363-1581 by June 20, 2001. To expedite check-in security procedures, all attendees should provide e-mail notification to Veronique.Benjamins @LOSANGELES.AF.MIL. Please include the words, “29 June 2001 GPS L2/L5 Civil Signal Public Forum Attendee” in the subject line of your e-mail. The FAA Auditorium allows seating for 175 attendees and seating will be on a first come basis. The Government will not pay for any costs associated with attending this briefing or for any information. Picture identification will be required for admittance.

ADDRESSES: JPO Point of Contact: SMC/CZC, 2420 Vela Way, Suite 1467, El Segundo, CA 90245-4659, ATTN: Lieutenant Commander Richard Fontana, USCG.

DATES: If you intend to participate in these meetings, please submit your e-mail notification not later than June 21, 2001.

FOR FURTHER INFORMATION CONTACT: Ms. Veronique Benjamins, (310) 363-6515, or Lieutenant Commander Richard Fontana, USCG, (310) 363-1703, GPS Deputy Program Manager, Department of Transportation.

SUPPLEMENTARY INFORMATION:

Background

The Global Positioning System employs a constellation of 24 satellites and associated ground stations to provide continuously transmitted world-wide positioning, navigation, and timing signals for use with appropriately configured GPS user equipment. The current generation GPS space vehicles transmit signals at the L1 and L2 frequencies. In the future, new civil signals will be transmitted on the L2 and L5 frequencies. The international civilian and military communities employ the dual use Global Positioning System.

Janet A. Long,
Air Force Federal Register Liaison Officer.

[FR Doc. 01-15589 Filed 6-20-01; 8:45 am]

BILLING CODE 5001-05-U